DEPARTMENT OF ENERGY

Federal Energy Regulatory Commission

[Docket Nos. EL07-105-000; QF07-129-002]

Matanuska Electric Association, Inc., Tiqun Energy, Inc.; Notice of Filing

September 28, 2007.

Take notice that on August 31, 2007, as completed on September 21, 2007, Matanuska Electric Association, Inc. (Matanuska) filed a Petition for Declaratory Order and Motion for Revocation seeking the revocation of the qualifying facility (QF) status of a QF self-certified by Tiqun Energy, Inc. (Tiqun). The QF, which has not been built, is the Pioneer Energy Project (Pioneer Facility), which was self-certified by Tiqun in Docket No. QF07-129-000. Matanuska claims that the Pioneer Facility does not meet the criteria for QF status, and thus the Commission should issue an order revoking its QF status. Matanuska also asks for refund of the filing fee it paid on September 21, 2007, claiming that a filing fee is not required for action on its petition/motion to revoke the QF status of the Pioneer Facility.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 26, 2007.

Kimberly D. Bose,
Secretary.

[FR Doc. E7-19784 Filed 10-5-07; 8:45 am]

BILLING CODE 6717-01-P